DEPARTMENT OF THE INTERIOR

Bureau of Land Management

[19XL1109AF LLUT925000-L14400000-BJ0000-241A]

Notice of Filing of Plats of Survey; Utah

AGENCY: Bureau of Land Management, Interior

ACTION: Notice of Filing of Plats of Survey; Utah

SUMMARY: The Bureau of Land Management (BLM) will file the plats of survey of the lands described below in the BLM Utah State Office, Salt Lake City, Utah, 30 calendar days from the date of this publication.

DATES: A person or party who wishes to protest one or more of the plats of survey must file a written notice by November 7, 2019.

ADDRESSES: Written notices protesting this survey must be sent to the Utah State Director, BLM Utah State Office, 440 West 200 South, Suite 500, Salt Lake City, Utah 84101-1345.

FOR FURTHER INFORMATION CONTACT: Daniel W. Webb, Chief Cadastral Surveyor for Utah, Bureau of Land Management, Branch of Geographic Sciences, 440 West 200 South, Suite 500, Salt Lake City, Utah 84101-1345, telephone (801) 539-4135, or email dwebb@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: These surveys were executed at the request of the Bureau of Indian Affairs. The lands surveyed are:

Salt Lake Meridian, Utah

T. 40 S., R. 21 E.,

The dependent resurvey of a portion of the south boundary (Eighth Standard Parallel South), a portion of the subdivisional lines, the subdivision of sections 25, 33, and 34, the survey of a portion of the subdivisional lines, the survey of a portion of the present meanders of the right and left banks, and the informative traverse of a portion of the right bank of the San Juan River, accepted August 21, 2019, Group No. 1150, Utah.

T. 40 S., R. 22 E.,

The dependent resurvey of the south boundary (Eighth Standard Parallel South), a portion of the east boundary (Colorado Guide Meridian), a portion of the west boundary, a portion of the subdivisional lines, and a portion of the subdivision of section 30, and the survey of a portion of the subdivisional lines, and the survey of a portion of the present meanders of the right and left banks of the San Juan River, accepted August 21, 2019, Group No. 1150, Utah.

Copies of the plats and related field notes will be placed in the open files. They will be available for public review in the BLM Utah State Office as a matter of information.

A person or party who wishes to protest one or more of the above surveys must file a written notice within 30 calendar days from the date of this publication with the Utah State Director, Bureau of Land Management, at the address listed in the ADDRESSES section, stating that they wish to protest. The notice of protest must identify the plat(s) of survey that the person or party wishes to protest. A statement of reasons for the protest, if not filed with the notice of protest, must be filed with the Utah State Director within 30 calendar days after the notice of protest is filed. If a notice of protest against a plat of survey is received prior to the date of official filing, the filing will be stayed pending consideration of the protest. The plat will not be officially filed until the day after all protests have been dismissed or otherwise resolved.

Before including your address, phone number, email address, or other personal identifying information in your protest, you should be aware that your entire protest—including your personal identifying information—may be made publicly available at any time. While you can ask us to withhold your personal identifying information from public review, we cannot guarantee that we will be able to do so.

Authority: 43 U.S.C. Chap. 3.

Daniel W. Webb,
Chief Cadastral Surveyor for Utah.

[FR Doc. 2019-21952 Filed 10-7-19; 8:45 am]

BILLING CODE 4310-DQ-P